GENERAL SERVICES ADMINISTRATION

[Notice-CECANF-2015-09; Docket No. 2015-0004; Sequence No. 9]

Commission To Eliminate Child Abuse and Neglect Fatalities; Announcement of Meetings

AGENCY: Commission to Eliminate Child Abuse and Neglect Fatalities, GSA.

ACTION: Meetings Notice.

SUMMARY: The Commission to Eliminate Child Abuse and Neglect Fatalities (CECANF), a Federal Advisory Committee established by the Protect Our Kids Act of 2012, will hold a meeting open to the public on Monday, December 7, 2015 and Tuesday, December 8, 2015 in Herndon, Virginia.

DATES: Meeting Dates: The meeting will be held on Monday, December 7, 2015, from 9:00 a.m. to 5:00 p.m., Eastern Standard Time (EST), and Tuesday, December 8, 2015, from 9:00 a.m. to 12:00 p.m., Eastern Standard Time (EST).

Comment due date: All comments must be received by midnight on Wednesday, December 2, 2015, to be addressed during the meeting.

ADDRESSES: CECANF will convene its meeting at the Hilton Washington Dulles, 13869 Park Center Drive, Herndon, Virginia 20171. This site is accessible to individuals with disabilities. The meeting also will be made available via teleconference.

Submit comments identified by “Notice-CECANF-2015-09” by either of the following methods:

• Regulations.gov: http://www.regulations.gov.

Submit comments via the Federal eRulemaking portal by searching for “Notice-CECANF-2015-09.” Select the link “Comment Now” that corresponds with “Notice-CECANF-2015-09.” Follow the instructions provided on the screen. Please include your name, organization name (if any), and “Notice-CECANF-2015-09” on your attached document.

• Mail: U.S. General Services Administration, 1800 F Street NW., Room 7003D, Washington, DC 20405, Attention: Tom Hodnett (CD) for CECANF.

Instructions: Please submit comments only and cite “Notice-CECANF-2015-09” in all correspondence related to this notice. All comments received will be posted without change to http://www.regulations.gov, including any personal and/or business confidential information provided. To confirm receipt of your comment(s), please check http://www.regulations.gov, approximately two to three days after submission to verify posting (except allow 30 days for posting of comments submitted by mail).

FOR FURTHER INFORMATION CONTACT: Visit the CECANF Web site at https://eliminatechildabusefatalities.sites.usa.gov/ or contact Patricia Brincefield, Communications Director, at 202-818-9596, U.S. General Services Administration, 1800 F Street NW., Room 7003D, Washington, DC 20405, Attention: Tom Hodnett (CD) for CECANF.

SUPPLEMENTARY INFORMATION:

Background: CECANF was established to develop a national strategy and recommendations for reducing fatalities resulting from child abuse and neglect.

Agenda: Commission members will continue discussing the work plans of the Commission subcommittees, the information that they have obtained to date, and emerging recommendations.

Attendance at the Meeting: Individuals interested in attending the meeting in person or participating by webinar and teleconference must register in advance. To register to attend in person or by webinar/phone, please go to http://meetingtomorrow.com/webcast/CECANF and follow the prompts. Once you register, you will receive a confirmation email with the teleconference number. Detailed meeting minutes will be posted within 90 days of the meeting. Members of the public will not have the opportunity to ask questions or otherwise participate in the meeting.

However, members of the public wishing to comment should follow the steps detailed under the heading ADDRESSES in this publication or contact us via the CECANF Web site at https://eliminatechildabusefatalities.sites.usa.gov/contact-us/.

Dated: November 9, 2015.
Karen White,
Executive Assistant.

[FR Doc. 2015-29002 Filed 11-13-15; 8:45 am]

BILLING CODE 6820-34-P